DEPARTMENT OF COMMERCE

International Trade Administration

Export Trade Certificate of Review

ACTION: Notice of issuance of an amended Export Trade Certificate of Review application No. 00-1A002.

SUMMARY: The Department of Commerce issued an Export Trade Certificate of Review (Certificate) to the CONSOL Energy Inc. (Consol) on February 16, 2004. This notice summarizes the conduct for which certification has been granted.

FOR FURTHER INFORMATION CONTACT: Jeffrey C. Anspacher, Director, Export Trading Company Affairs, International Trade Administration, by telephone at (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. The regulations implementing title III are found at 15 CFR part 325 (2003). The Office of Export Trading Company Affairs (“OETCA”) is issuing this notice pursuant to 15 CFR 325.6(b), which requires the Department of Commerce to publish a summary of a Certificate in the Federal Register. Under section 305 (a) of the Act and 15 CFR 325.11(a), any person aggrieved by the Secretary's determination may, within 30 days of the date of this notice, bring an action in any appropriate district court of the United States to set aside the determination on the ground that the determination is erroneous.

Description of Amended Certificate: Consol's original Certificate was issued on June 30, 2000 (65 FR 43738, July 14, 2000). Consol's Certificate has been amended as follows:

(1) The following company has been added as a “Member” of the Certificate within the meaning of section 325.2(1) of the Regulations (15 CFR 325.2(1)): X Coal Energy & Resources, Latrobe, PA.

Dated: March 7, 2005.
Jeffrey C. Anspacher,
Director, Export Trading Company Affairs.

[FR Doc. E5-1064 Filed 3-11-05; 8:45 am]

BILLING CODE 3510-DR-P